DEPARTMENT OF STATE

[Public Notice 4040]

U.S. Advisory Commission on Public Diplomacy; Notice of Meeting

The Department of State announces the meeting of the U.S. Advisory Commission on Public Diplomacy on Friday, July 19 in Room 1406 of the U.S. Department of State at 2201 C Street, NW, Washington, DC. The meeting will take place from 10 a.m. to 11 a.m.

The Commission, reauthorized pursuant to Pub. L. 106-113 (H.R. 3194, Consolidated Appropriations Act, 2000), will hear from experts who are launching a global initiative designed to ensure that health becomes an important component of U.S. foreign policy and is used to improve America's image abroad, defuse anger and resentment by people in the Middle East and other regions against the United States, and attack some of the root causes of terrorism.

Dr. Kenneth L. Shine, who recently joined the new RAND Center for Domestic and International Health Security as its first director, will be the principal speaker at the session. Dr. Shine is one of the nation's leading physicians and was the president of the Institute of Medicine at the National Academy of Sciences. Dr. C. Ross Anthony, associate center director for international health, will also speak. Dr. Anthony is the former director of development resources for USAID/Europe and an international health expert.

The U.S. Advisory Commission on Public Diplomacy is a bipartisan Presidentially appointed panel created by Congress in 1948 to provide oversight of U.S. Government activities intended to understand, inform and influence foreign publics. The Commission reports its findings and recommendations to the President, the Congress and the Secretary of State and the American people. Current commission members include Harold Pachios of Maine, who is the chairman; Charles Dolan of Virginia, who is the vice chairman; Penne Percy Korth of Washington, DC; Lewis Manilow of Illinois; and Maria Elena Torano of Florida.

Members of the general public may attend the meeting, though attendance of public members will be limited to the seating available. Access to the building is controlled, and individual building passes are required for all attendees.

To attend the meeting, please contact Matt Lauer at (202) 619-4463 and provide date of birth and Social Security number. For more information visit www.state.gov/r/adcompd.

Dated: June 28, 2002.
Matthew Lauer,
Executive Director, Department of State.

[FR Doc. 02-16887 Filed 7-3-02; 8:45 am]

BILLING CODE 4710-11-P